DEPARTMENT OF THE INTERIOR

Bureau of Land Management

[UT-030-02-1610-DE-24-1A]

Notice of Extension of Call for Nomination Period

AGENCY: Bureau of Land Management, Interior.

ACTION: Notice of Extension of Call for Nominations for the Grand Staircase—Escalante National Monument Advisory Committee.

SUMMARY: This notice is issued to extend the call for nominations for the Grand Staircase-Escalante National Monument's (GSENM) Advisory Committee from July 30, 2002, to August 20, 2002.

SUPPLEMENTARY INFORMATION: Any individual or organization may nominate one or more persons to serve on the GSENM Advisory Committee. Individuals may nominate themselves for committee membership. You may obtain nomination forms from the GSENM office or download the application from the following Internet address: www.ut.blm.gov/monument. To make a nomination, you must submit a completed nomination form, letters of reference from the represented interests or organizations, as well as any other information that speaks to the nominee's qualifications. Applications must be submitted to the Monument Manager, Grand Staircase-Escalante National Monument, Bureau of Land Management, 190 E. Center Street, Kanab, Utah, 84741, by close of business August 20, 2002. The Grand Staircase-Escalante National Monument Advisory Committee advises the Bureau of Land Management on resource management issues associated with the National Monument.

FOR FURTHER INFORMATION CONTACT: David Hunsaker, Acting Monument Manager, (435) 644-4300, or the following Web site address: www.ut.blm.gov/monument.

Dated: July 18, 2002.
Robert A. Bennett,
Associate State Director.

[FR Doc. 02-19192 Filed 7-29-02; 8:45 am]

BILLING CODE 4310-84-P